DEPARTMENT OF AGRICULTURE

Animal and Plant Health Inspection Service

[Docket No. APHIS-2018-0043]

Notice of Determination of the Foot-and-Mouth Disease Status of Singapore

AGENCY: Animal and Plant Health Inspection Service, USDA.

ACTION: Notice.

SUMMARY: We are advising the public of our determination to recognize Singapore as being free of foot-and-mouth disease (FMD). Based on our evaluation of the FMD status of Singapore, which we made available to the public for review and comment through a previous notice, the Administrator has determined that Singapore is free of FMD.

DATES: This change in Singapore's FMD status will be recognized on November 18, 2019.

FOR FURTHER INFORMATION CONTACT: Dr. Roberta A. Morales, Senior Staff Veterinarian, Regionalization Evaluation Services, Strategy and Policy, VS, APHIS, 920 Main Campus Drive, Raleigh, NC 27606; (919) 855-7735; Roberta.A.Morales@usda.gov.

SUPPLEMENTARY INFORMATION: The regulations in 9 CFR part 94 (referred to below as the regulations) govern the importation of certain animals and animal products into the United States to prevent the introduction of various animal diseases, including foot-and-mouth disease (FMD). The regulations prohibit or otherwise restrict the importation of live ruminants and swine, and products from these animals, from regions where the Animal and Plant Health Inspection Service (APHIS) considers FMD to exist.

Within part 94, § 94.1 contains requirements governing the importation of ruminants and swine from regions where FMD exists and the importation of the meat of any ruminants or swine from regions where FMD exists to prevent the introduction of this disease into the United States. We consider FMD to exist in all regions except those listed in accordance with paragraph (a) of that section as free of FMD.

Section 94.11 of the regulations contains requirements governing the importation of meat of any ruminants or swine from regions that have been determined to be free of FMD, but that are subject to certain restrictions because of their proximity to or trading relationships with FMD-affected regions. Such regions are listed in accordance with paragraph (a) of that section.

The regulations in 9 CFR part 92, § 92.2, contain requirements for requesting the recognition of the animal health status of a region. If, after review and evaluation of the information submitted in support of the request, APHIS believes the request can be safely granted, APHIS will indicate its intent and make its evaluation available for public comment through a document published in the Federal Register. Following the close of the comment period, APHIS will review all comments received and will make a final determination regarding the request that will be detailed in another document published in the Federal Register.

In accordance with that process, Singapore requested that APHIS evaluate the FMD status of that country. In response to this request, APHIS conducted a qualitative risk assessment to evaluate the FMD status of Singapore. Based on the results of this evaluation, we have determined that Singapore is free of FMD. APHIS also determined that the surveillance, prevention, and control measures implemented by Singapore are sufficient to minimize the likelihood of introducing FMD into the United States via imports of species susceptible to this disease or products of those species.

Accordingly, we published a notice ¹ in the Federal Register on March 19, 2019 (84 FR 10024-10025, Docket No. APHIS-2018-0043), in which we announced the availability, for review and comment, of a risk assessment that evaluated the risk of introduction of FMD into the United States through the importation of animals and animal products from Singapore.

¹ To view the notice and supporting documents, go to https://www.regulations.gov/docket?D=APHIS-2018-0043.

We solicited comments on the notice for 60 days ending May 20, 2019. We did not receive any comments. Therefore, in accordance with the regulations, we are announcing our decision to recognize Singapore as free of FMD. The list of regions recognized as free of FMD can be found on the APHIS website at https://www.aphis.usda.gov/animalhealth/disease-status-of-regions. Copies of the lists are also available via postal mail, fax, or email upon request to Regionalization Evaluation Services, Strategy and Policy, Veterinary Services, Animal and Plant Health Inspection Service, 4700 River Road Unit 39, Riverdale, MD 20737.

Congressional Review Act

Pursuant to the Congressional Review Act (5 U.S.C. 801 et seq.), the Office of Information and Regulatory Affairs designated this action as not a major rule, as defined by 5 U.S.C. 804(2).

Authority: 7 U.S.C. 1633, 7701-7772, 7781-7786, and 8301-8317; 21 U.S.C. 136 and 136a; 31 U.S.C. 9701; 7 CFR 2.22, 2.80, and 371.4.

Done in Washington, DC, this 10th day of October 2019.
Kevin Shea,
Administrator, Animal and Plant Health Inspection Service.

[FR Doc. 2019-22646 Filed 10-16-19; 8:45 am]

BILLING CODE 3410-34-P